AGENCY FOR INTERNATIONAL DEVELOPMENT

Notice of July 19, 2017 Advisory Committee on Voluntary Foreign Aid Meeting

AGENCY: United States Agency for International Development.

ACTION: Notice of meeting.

SUMMARY: Pursuant to the Federal Advisory Committee Act, notice is hereby given of a meeting of the Advisory Committee on Voluntary Foreign Aid (ACVFA).

Date: Wednesday, July 19, 2017.

Time: 2:00-4:00 p.m.

Location: Horizon Ballroom, The Ronald Reagan Building, 1300 Pennsylvania Ave. NW., Washington, DC 20004.

Purpose

The Advisory Committee on Voluntary Foreign Aid (ACVFA) brings together USAID and private voluntary organization officials, representatives from universities, international nongovernment organizations, U.S. businesses, and government, multilateral, and private organizations to foster understanding, communication, and cooperation in the area of foreign aid.

Agenda

USAID leadership will make opening remarks, followed by a panel discussion to explore possible approaches to reforming U.S. foreign assistance. The full meeting agenda will be forthcoming on the ACVFA Web site at http://www.usaid.gov/who-we-are/organization/advisory-committee.

Stakeholders

The meeting is free and open to the public. Persons wishing to attend should register online at http://www.usaid.gov/who-we-are/organization/advisory-committee.

FOR FURTHER INFORMATION CONTACT: Jessica Klein, acvfa@usaid.gov.

Jessica Klein,
Acting Executive Director, U.S. Agency for International Development.

[FR Doc. 2017-14288 Filed 7-6-17; 8:45 am]

BILLING CODE P